DEPARTMENT OF THE INTERIOR

Minerals Management Service (MMS)

Outer Continental Shelf (OCS), Alaska Region, Beaufort Sea, Proposed Liberty Development and Production Plan (DPP)

AGENCY: Minerals Management Service, Interior.

ACTION: Notice of Availability of the Draft Environmental Impact Statement (EIS) and Locations and Dates of Public Hearings for British Petroleum Exploration (Alaska) (BPXA) Inc.’s Proposed Liberty DPP Offshore Alaska.

SUMMARY: The MMS is issuing a draft EIS for the BPXA Inc.'s proposed Liberty Development Project DPP in the Beaufort Sea, Alaska. The U.S. Army Corps of Engineers (COE) and the Environmental Protection Agency (EPA) were cooperating agencies, with the MMS, in preparing the EIS. Information on the availability of the EIS and dates and locations for public hearings and submission of comments are presented in this notice.

FOR FURTHER INFORMATION CONTACT: For matters pertaining to this notice, contact Mr. Fred King (Alaska OCS Region, Anchorage) at (907) 271-6696 or toll free at 1-800-764-2627.

DATES: Comments on the draft EIS will be accepted until March 13, 2001.

SUPPLEMENTARY INFORMATION: The MMS, in cooperation with the COE and EPA, prepared a draft EIS on BPXA Inc.’s proposed Liberty Development Project DPP. This EIS additionally serves as the environmental analysis for the BPXA's Oil Discharge Prevention and Contingency Plan (ODPCP) and the construction and operation of a pipeline that would be associated with any Right-of-Way (ROW) for the OCS portion of the proposed Liberty pipeline. The public review for the DPP, ODPCP, and ROW will be announced separately by the MMS Alaska OCS Region.

This EIS is also intended to meet NEPA compliance and public notice requirements for EPA's issuance of a National Pollutant Discharge Elimination System (NPDES) permit, pursuant to Section 402 of the Clean Water Act. By this notice, the EPA is seeking public review and comment of the NPDES permit and explanatory fact sheet which are included as Appendix I in the draft EIS.

The Liberty prospect is located on the OCS in the Beaufort Sea northeast of the Prudhoe Bay oil field. The MMS is the lead agency which developed the EIS, in cooperation with the COE and the EPA, as required by the National Environmental Policy Act (NEPA) of 1969, as amended (42 U.S.C. 4371 et seq.). In February 1998, BPXA submitted a DPP, subsequently revised in November 1998 (Revision 1) and July 2000 (Revision 2), describing how they proposed to produce, develop, and transport oil from the Liberty Prospect using a manmade gravel island constructed on the Federal OCS and located in 22 feet of water about 6.1 miles offshore in Foggy Island Bay and 1.5 miles west of the abandoned Tern Island. The Liberty Island facility would be a self-contained offshore drilling operation with processing facilities. Oil would be transported to shore in a common carrier pipeline which connects with the Trans-Alaska Pipeline System. A new gravel mine site and offshore and onshore ice roads are part of the proposed project. The MMS based the EIS analyses on estimates of the kinds and amounts of activity onshore and offshore that could result from transporting personnel and equipment offshore, constructing the self-contained manmade gravel island and structures, installing structures and equipment on the island, drilling wells, and constructing a common carrier oil pipeline buried in an undersea trench to an onshore landfall and then elevated onshore by vertical support members to a tie-in with the existing onshore Badami oil pipeline, then to the Trans-Alaska Pipeline System.

The EIS addresses a range of potentially applicable technologies and construction options. The EIS evaluates the BPXA Proposal, a No-Action alternative, and a variety of alternatives that were developed in light of the most significant issues raised from scoping. The alternatives examine three island locations and pipeline routes, four pipeline designs, two types of upper slope protection for the production island, two gravel mine sites, and two pipeline burial depths. The EIS also evaluates the effects of oil spill response activities described in the ODPCP.

EIS Availability: You may obtain single copies of the draft EIS, “OCS EIS, MMS 2001-001” (three volumes), from the MMS, Alaska OCS Region, Attention: Mr. Fred R. King, (MS 8303), 949 E. 36th Avenue, Room 308, Anchorage, Alaska 99508-4363, or by calling 1-800-764-2627. The Executive Summary of this draft EIS is also available as a separate document: Executive Summary, MMS 2001-002. In addition, the complete EIS is available on CD-ROM (MMS 2001-001 CD) and on the Internet at (http://www.mms.gov/alaska/cproject/liberty).

You may look at copies of the draft EIS in the following libraries and offices in Alaska:

Alaska MMS Public Information Resource Center, 949 E. 36th Avenue, Anchorage; Alaska Resources Library and Information Services, U.S. Department of the Interior, 3150 C Street, Suite 100, Anchorage;

Alaska State Library, State Office Building, 333 Willoughby, Juneau; Army Corps of Engineers Library, U.S. Department of Defense, Elmendorf Air Force Base, Anchorage;

Fairbanks North Star Borough Public Library (Noel Wien Library), 1215 Cowles Street, Fairbanks;

Kaveolook School Library, Kaktovik;

Juneau Public Library, 292 Marine Way, Juneau;

North Slope Borough School District Library/Media Center, Barrow;

Northern Alaska Environmental Center Library, 218 Driveway, Fairbanks;

Nuiqsut Library, Nuiqsut;

Tuzzy Consortium Library, Barrow;

University of Alaska Anchorage, Consortium Library, 3211 Providence Drive, Anchorage;

University of Alaska Fairbanks, Elmer E. Rasmuson Library, 310 Tanana Drive, Fairbanks;

University of Alaska, Fairbanks Institute of Arctic Biology, 311 Irving Building, Fairbanks;

University of Alaska-Juneau Library, 11120 Glacier Highway, Juneau;

Valdez Consortium Library, 200 Fairbanks Street, Valdez;

Z. J. Loussac Library, 3600 Denali Street, Anchorage;

Alaska Eskimo Whaling Commission Office, Barrow;

Alaska Inter-Tribal Council, 431 West 7th Avenue, Suite 201, Anchorage;

Barrow City Office, Barrow;

North Slope Borough Office, Barrow;

Kaktovik City Office, Kaktovik;

Nuiqsut City Office, Nuiqsut.

Public Hearings: Five public hearings will be held to receive comments on the draft EIS. The hearings will provide us with additional information that will help in evaluating the potential effects of the proposed project. Hearings will be held in Anchorage, Barrow, Kaktovik, Nuiqsut, and Fairbanks on the following dates and times:

February 15, 2001, 12-3 p.m. and 7-9 p.m., Z. J. Loussac Library, Wilda;

Marston Theatre , 3600 Denali Street, Anchorage;

February 19, 2001, 7:30-10 p.m., Inupiaq Heritage Center, Barrow;

February 20, 2001, 7-10 p.m., Kaktovik Community Center, Kaktovik;

February 21, 2001, 7-10 p.m., at Kisik Community Center, Nuiqsut;

February 22, 2001, 6-9 p.m., at the Alaskaland Exhibit Hall, 2600 Airport Way, Fairbanks.

An Inupiat translator will be available at the public hearings held in Barrow, Kaktovik, and Nuiqsut. Oral and written comments on the draft EIS will be addressed in the final EIS.

If you wish to testify at a hearing, you may register prior to the hearing to schedule a preferred time by contacting the Alaska OCS Region at the above address or Mr. Fred King at (907) 271-6696 or toll free 1-800-764-2627 not later than 3 days prior to the hearing date. Every effort will be made to accommodate individuals who have not pre-registered to testify. Time limitations may make it necessary to limit the length of oral statements to 10 minutes. You may supplement an oral statement with a more complete written statement and submit it to a hearing official at the hearing or by mail until March 13, 2001. Written statements submitted at a hearing will be considered part of the hearing record. If you are unable to attend the hearing, you may submit written statements at the address below.

We will accept comments on the draft EIS until March 13, 2001. Address your comments to the Regional Director, Alaska OCS Region, Minerals Management Service, 949 East 36th Avenue, Room 308, Anchorage, Alaska 99508-4363.

Dated: December 21, 2000.
Carolita U. Kallaur,
Associate Director for Offshore Minerals Management.

[FR Doc. 01-426 Filed 1-5-01; 8:45 am]

BILLING CODE 4310-MR-P